DEPARTMENT OF STATE

[Public Notice 4607]

Advisory Committee on International Economic Policy; Notice of Open Meeting

The Advisory Committee on International Economic Policy (ACIEP) will meet from 9 a.m. to noon on Tuesday, March 2, 2004 in Room 1107, U.S. Department of State, 2201 C Street, NW., Washington, DC 20520. The meeting will be hosted by Assistant Secretary of State for Economic and Business Affairs E. Anthony Wayne and Committee Chairman R. Michael Gadbaw.

The ACIEP serves the U.S. Government in a solely advisory capacity concerning issues and problems in international economic policy. Topics for the March 2 meeting are transparency and anti-corruption efforts, China's economic growth, public-private partnerships, and subcommittee updates.

The public may attend this meeting as seating capacity allows. Admittance to the State Department building will be by means of a pre-arranged clearance list. In order to be placed on this list, please provide your name, title, company or other affiliation if appropriate, social security number (or other identification number, such as driver's license number), date of birth, and citizenship to the ACIEP Executive Secretariat by fax (202) 647-5936 (Attention: Gwendolyn Jackson), e-mail (jacksongl@state.gov), or telephone (202) 647-0847 by February 26. On the date of the meeting, persons who have registered should use the C Street entrance.

For further information about the meeting, please contact Eliza Koch, ACIEP Secretariat, by e-mail (kochek@state.gov) or telephone (202) 647-1310.

Dated: February 10, 2004.
Eliza K. Koch,
ACIEP Secretariat, Office of Economic Policy and Public Diplomacy, Bureau of Economic and Business Affairs, Department of State.

[FR Doc. 04-3382 Filed 2-13-04; 8:45 am]

BILLING CODE 4710-07-P